DEPARTMENT OF AGRICULTURE

Rural Business-Cooperative Service

Request for Proposals: Fiscal Year 2004 Funding Opportunity for 1890 Land Grant Institutions Rural Entrepreneurial Program Outreach Initiative

AGENCY: Rural Business-Cooperative Service, USDA.

ACTION: Initial notice.

SUMMARY: The Rural Business-Cooperative Service (RBS) announces the availability of approximately $1.5 million in competitive cooperative agreement funds allocated from fiscal year (FY) 2004 budget. RBS hereby requests proposals from the 1890 Land Grant Universities and Tuskegee University (1890 Institutions) interested in applying for competitively awarded cooperative agreements for support of RBS mission goals and objectives of outreach to small rural communities and to develop programs that will develop future entrepreneurs and businesses in rural America in those communities that have the most economic need. These programs must provide sustainable development that is in keeping with the needs of the community and designed to help overcome currently identified economic problems. Proposals in both traditional and nontraditional business enterprises are encouraged. The initiative seeks to create a working partnership between the 1890 Institutions and RBS through cooperative agreements.

Awards will be made for proposals found to be meritorious by a peer review panel of USDA's employees knowledgeable of the subject matter. Awards will be made to the extent that funds are available. However, there is no commitment by USDA to fund any particular proposal or to make a specific number of awards.

Eligible applicants must provide matching funds in support of this project. Matching funds must equal at least 25 percent of the amount provided by RBS in the cooperative agreement. This Notice lists the information needed to submit an application for these funds.

DATES: Cooperative agreement applications must be received by 4 p.m. July 26, 2004. Proposals received after July 26, 2004, will not be considered for funding.

ADDRESSES: Send proposals and other required materials to Mr. Edgar L. Lewis, Program Manager, Rural Business-Cooperative Service, USDA, STOP 3252, Room 4221, 1400 Independence Avenue SW., Washington, DC 20250-3252. Telephone: (202) 690-3407, E-mail: edgar.lewis@usda.gov.

FOR FURTHER INFORMATION CONTACT: Mr. Edgar L. Lewis, Program Manager, Rural Business-Cooperative Service, USDA, Stop 3252, Room 4221, 1400 Independence Avenue SW., Washington, DC 20250-3252. Telephone: (202) 690-3407, E-mail: edgar.lewis@usda.gov.

SUPPLEMENTARY INFORMATION:

Overview

Federal Agency: Rural Business-Cooperative Service (RBS).

Funding Opportunity Title: 1890 Land Grant Institutions Rural Entrepreneurial Program Outreach Initiative.

Announcement Type: Initial Announcement.

Catalog of Federal Domestic Assistance (CFDA) Number: 10-856.

Key Dates: Cooperative agreement applications must be received by 4 p.m. July 26, 2004. Proposals received after July 26, 2004, will not be considered for funding.

Executive Summary: The Rural Business-Cooperative Service (RBS) announces the availability of approximately $1.5 million in competitive cooperative agreement funds allocated from fiscal year (FY) 2004 budget. RBS hereby requests proposals from the 1890 Land Grant Universities and Tuskegee University (1890 Institutions) interested in applying for competitively awarded cooperative agreements for support of RBS mission goals and objectives of outreach to small rural communities and to develop programs that will develop future entrepreneurs and businesses, including cooperatives, in rural America in those communities that have the most economic need. These programs must provide sustainable development that is in keeping with the needs of the community and designed to help overcome currently identified economic problems. The initiative seeks to create a working partnership between the 1890 Institutions and RBS through cooperative agreements.

Awards will be made for proposals found to be meritorious by a peer review panel of USDA's employees knowledgeable of the subject matter. Awards will be made to the extent that funds are available. However, there is no commitment by USDA to fund any particular proposal or to make a specific number of awards.

Eligible applicants must provide matching funds in support of this project. Matching funds must equal at least 25 percent of the amount provided by RBS in the cooperative agreement. This Notice lists the information needed to submit an application for these funds.

I. Funding Opportunity Description

This solicitation is issued pursuant to 7 U.S.C. 2204b(b)(4). Also, this solicitation is issued pursuant to Executive Order 13256 (February 12, 2002), “President's Board of Advisors on Historically Black Colleges and Universities.”

RBS was established under the authority of the Department of Agriculture Reorganization Act of 1994. The mission of RBS is to enhance the quality of life for rural Americans by providing leadership in building competitive businesses including sustainable cooperatives that can prosper in the global marketplace. RBS meets these goals by: Investing financial resources and providing technical assistance to businesses and cooperatives located in rural communities; establishing strategic alliances and partnerships that leverage public, private, and cooperative resources to create jobs and stimulate rural economic activity.

The primary purpose of the 1890 Land Grant Institutions Rural Entrepreneurial Program Outreach Initiative is to have 1890 Institutions promote Rural Development programs, provide outreach and technical assistance, to new and existing cooperatives, and encourage and assist underserved rural community residents to participate in the USDA-Rural Development programs, especially those administrated by RBS. This outreach initiative is also designed to develop programs that will develop future entrepreneurs and businesses, including cooperatives, in rural America in those communities that have the most economic need. These programs must provide sustainable development that is in keeping with the needs of the community and are designed to help overcome currently identified economic problems. Proposals in both traditional and nontraditional business enterprises are encouraged. The initiative seeks to create a working partnership through cooperative agreements between 1890 Institutions and RBS, to develop programs to assist future entrepreneurs, cooperatives and other businesses.

RBS plans to use cooperative agreements with the 1890 Institutions to strengthen the capacity of these communities to undertake innovative, comprehensive, citizen led, long-term strategies for community and economic development. The cooperative agreements will be for an outreach effort to promote Rural Development-RBS programs in targeted underserved rural communities and shall include, but not be limited to:

(a) Developing a business startup program including technical assistance, to assist new cooperatives and other businesses with new business development, business planning, franchise startup and consulting, business expansion studies, marketing analysis, cashflow management, and seminars and workshops for cooperatives and small businesses;

(b) Developing management and technical assistance plans that will:

(1) Assess cooperative and small business alternatives to traditional agricultural and other natural resource based industries;

(2) Assist in the development of business plans or loan packages, marketing, or bookkeeping;

(3) Assist and train cooperatives and small businesses in customer relations, product development, or business planning and development.

(c) Assessing and conducting feasibility studies of local community weaknesses and strengths, feasible alternatives to agricultural production, and the necessary infrastructure to expand or develop new or existing businesses;

(d) Providing community leaders with advice and recommendations regarding best practices in community economic development stimulus programs for their communities;

(e) Conducting seminars to disseminate information to stimulate business and economic development in selected rural communities; and

(f) Developing computer technology outreach and establishing and maintaining a computer network system, linking community leaders and residents to available economic development information.

Funds may not be used to: (a) Pay costs of preparing the application package; (b) fund political activities; (c) pay costs prior to the effective date of the cooperative agreement; (d) provide for revolving funds; (e) do construction; (f) conduct any activities where there is or may appear to be a conflict of interest; or (g) purchase real estate.

II. Award Information

This is a cooperative agreement award instrument. The total amount of funds available in FY 2004 for support of this program is approximately $1.5 million. Applicants should request a budget commensurate with the project proposed. Total funds to be awarded will be distributed to the 1890 Institutions, competitively, for the purpose of conducting outreach and providing technical assistance to targeted small rural communities. This outreach initiative includes, but is not limited to, technical assistance in cooperative, economic, and community development, feasibility studies, research, market development, loan packaging, conducting workshops and seminars in the area of cooperative, business, and economic development, and developing and providing access to computer technology and web sites development to the targeted population and communities.

The actual number of cooperative agreements funded will depend on the quality of proposals received and the amount of funding requested. Maximum amount of Federal funds awarded for any one proposal will be $150,000. It is anticipated that a typical award would range from $75,000 to $150,000. A larger award may be granted at the Administrator's discretion.

In the event that the applicant is to receive an award that is less than the amount requested, the applicant will be required to modify the application to conform to the reduced amount before execution of the cooperative agreement. RBS reserves the right to reduce or de-obligate any award if acceptable modifications are not submitted by the awardees within 10 working days from the date the application is returned to the applicant. Any modification must be within the scope of the original application.

Awards will be made for proposals found to be meritorious by a peer review panel of USDA's employees knowledgeable of the subject matter. Awards will be made to the extent that funds are available. However, there is no commitment by USDA to fund any particular proposal or to make a specific number of awards.

Eligible applicants must provide matching funds in support of this project. Matching funds must equal at least 25 percent of the amount provided by RBS in the cooperative agreement. This Notice lists the information needed to submit an application for these funds.

Throughout the project period, Rural Development/RBS' commitment to the continuation of awards will be conditioned on the availability of funds, evidence of satisfactory progress by the recipient (as documented in certified acceptable quarterly progress and financial reports), and the determination that continued funding is in the best interest of the U.S. Government.

A cooperative agreement award instrument requires substantial involvement of the agency in carrying out the objectives of the project. Information on the agency involvement can be found in the award administration information in Section VI.

III. Eligibility Information

1. Eligible Applicants

Eligible applicants are 1890 Institutions which are: Alabama A&M University; University of Arkansas—Pine Bluff; Delaware State University; Florida A&M University; Fort Valley State University; Kentucky State University; Southern University and A&M College; University of Maryland—Eastern Shore; Alcorn State University; Langston University; North Carolina A&T State University; Lincoln University (MO); South Carolina State University; Tennessee State University; Prairie View A&M University; Virginia State University; and West Virginia State College; also including Tuskegee University. For this program, the agency will accept only one application per institution. In the event that more than one application is submitted, the 1890 Institution's president will determine the official application for consideration.

The applicant and assigned personnel must have expertise and experience in providing the recommended assistance. Applicants should also have a previous record of successful implementation of similar projects and must have the expertise in the use of electronic network technologies and/or a business information system network Web site.

Eligible beneficiaries must be located in a rural area as defined in 7 U.S.C. 1991(a)(13)(A) with a demonstrated economic need. Economic need can be demonstrated by the methods delineated in the evaluation section of this Notice. Location in an Empowerment Zone, Enterprise Community, Champion Community, federally-recognized Indian reservation or other federally declared economic depressed or disaster area is sufficient indication of economic need. Eligible beneficiaries must also be located in communities that show significant community support for the proposal. Preference will be given for projects that operate in a multi-county service area.

Award recipients may subcontract to organizations not eligible to apply provided such organizations are necessary for the conduct of the project. However, the subcontracted amount may not exceed one-third of the total Federal award.

2. Cost Sharing or Matching

Eligible applicants must provide matching funds in support of this project. Matching funds must equal at least 25 percent of the amount provided by RBS in the cooperative agreement. Applicants' contributions may be in cash or in-kind contributions and must be from non-Federal funds.

IV. Application and Submission Information

1. Address to Request Application

To obtain application instructions and all required forms, please contact the RBS Cooperative Services Program at (202) 690-3407 or FAX (202) 690-2723. The application forms and instructions may also be requested via e-mail by sending a message with your name, mailing address, and phone number to edgar.lewis@usda.gov. The application forms and instructions will be mailed to you as quickly as possible. When calling or e-mailing Cooperative Services, please indicate that you are requesting application forms and instructions for FY 2004 1890 Land Grant Institutions Rural Entrepreneurial Program Outreach Initiative. The application forms may also be located at Rural Business-Cooperative Service Web site: http://www.rurdev.usda.gov/rbs/oa/1890.htm.

2. Content and Form of Application

An original and two copies of the complete application are required. The original and 2 copies must include all required forms, certifications, assurances, and appendices, be signed by an authorized representative of the applicant organization, have original signatures, and be submitted unbound.

All Federal grant applicants must provide a Dun and Bradstreet Data Universal Numbering System (DUNS) number when applying for Federal grants and cooperative agreements. The DUNS number is required whether an applicant is submitting a paper application or using the government-wide electronic portal (http://www.Grants.gov). A DUNS number is required for every application for a new award or renewal/continuation of an award, including applications or plans under formula, entitlement and block grant programs, submitted on or after October 1, 2003. Please ensure that your organization has a DUNS number. You may acquire a DUNS number at no cost by calling the dedicated toll-free DUNS number request line on 1-866-705-5711 or you may request a number on-line at http://www.dnd.com.

If your application form does not have a DUNS number field, please write your DUNS number at the top of the first page of your application, and/or include your DUNS number in your application cover letter.

Your proposal should contain each of the following:

(a) Completed Forms.

(1) Form SF-424, “Application for Federal Assistance.” Please complete SF-424, including items 10 and 14 (voting District, Congressman and Senator).

(2) Form SF-424A, “Budget Information—Non-Construction Programs.”

(3) Form SF-424B, “Assurances—Non-Construction Programs.”

(4) Form AD-1047, “Certification Regarding Debarment, Suspension, and Other Responsibility Matters—Primary Covered Transactions.”

(5) Form AD-1049, “Certification Regarding Drug-Free Workplace Requirements.”

(b) A letter of support from your Rural Development/RBS State office.

(c) Table of Contents: For ease of locating information, each proposal must contain a detailed Table of Contents immediately following the required forms. The Table of Contents should include page numbers for each component of the proposal. Pagination should begin immediately following the Table of Contents.

(d) Project Executive Summary: A summary of the Project Proposal, not to exceed one page.

(e) Project Proposal: The application must contain a narrative statement describing the nature of the proposed outreach initiative. The proposal must include at least the following:

(1) Project Title Page. The Title Page must include the following: title of the project, names of principal investigators, and applicant organization.

(2) Introduction. A concisely worded justification or rationale for the outreach initiative must be presented. Included should be a summarization of social and economical statistical data (income, population, employment rate, poverty rate, education attainment, etc.), of the target area which substantiates the need for the outreach initiative. Note in this section if the target area includes an Employment Zone/Enterprise Community, Champion Community, Federally-recognized Indian reservation or other federally declared economic disaster area. Please discuss the “Economic Need of Community” evaluation criterion in this section.

(3) Workplan. Discuss the approach (strategy) to be used in carrying out the proposed outreach initiative and accomplishing the objectives. Please discuss the “Statement of Work” evaluation criterion in this section. A description of any subcontracting arrangements to be used in carrying out the project must be included. Also, the workplan must include:

(i) Overview of the project objectives and goals: Identify and discuss the specific goals and objectives of the project and the impact of the outreach initiative on end-users;

(ii) Timeframe: Develop a tentative schedule for conducting the major steps of the outreach initiative;

(iii) Milestones: Describe and quantify the expected outcome of the specific outreach objective, including jobs created or assisted, conferences and seminars conducted and number of participants, loans packaged, etc.;

(iv) Recipient involvement: Identify the person(s) who will be performing the activities; and

(v) RBS involvement: Identify RBS staff responsible for assisting and monitoring the activities.

(4) Estimated Budget. You must provide a detailed budget justification including matching funds.

(5) Leveraging Funds. Other institutional support of this outreach initiative project. Please discuss the “Matching Fund/Leveraging” evaluation criterion in this section.

(6) Coordination and Management Plan. Describe how the project will be coordinated among various participants, the nature of the collaborations and benefits to participants, the communities, the applicant, and RBS. Describe your plans for the management of the project to ensure its proper and efficient administration. Describe the scope of RBS's involvement in the project. Please discuss the “Coordination and Management of the Project” evaluation criterion in this section.

(7) Technology Outreach. The proposal must address the applicant's ability to deliver computer technology to the targeted rural communities and implement and maintain a computer network system linking community leaders and residents to available economic development information. Please discuss the “Digital Technology Outreach” evaluation criterion in this section.

(8) Key Personnel Support. The proposal must include curriculum vitae for the key personnel used to carry out the goals and objectives of the proposal.

(9) Facilities or Equipment. Your proposal must identify where the project will be located (housed) and what other equipment is needed or already available to carry out the specific objectives of the project.

(10) Previous Accomplishments. Summarize previous accomplishments of outreach work funded by RBS or similar outreach experiences. This is especially important for first time applicants. Please discuss the “Previous Accomplishments” evaluation criterion in this section.

(11) Local and Rural Development/RBS State Office Support. Letters of support from the local community such as businesses, educational institutions, local governments, community-based organizations, etc. One letter must be from the respective Rural Development/RBS State Office. Letters of support (other than from Rural Development/RBS) should show support with commitment for tangible resources and or assistance. A letter from Rural Development/RBS is evidence that the State office had an opportunity for input in your proposal and can meet the cooperative agreement requirements for RBS. Please discuss the “Local Support” evaluation criterion in this section.

(12) Any other information necessary for RBS to approve and show support with commitment for tangible resources and or rank your proposal.

Additionally you are encouraged to provide any strategic plan that has been developed to assist cooperative and business development or entrepreneurship for the targeted communities.

3. Submission Dates and Times

Dates:

Cooperative agreement proposals must be received in the RBS National Office by 4 p.m. July 26, 2004.

Proposals received after July 26, 2004, will not be considered for funding. The applicant assumes the risk of any delay in proposal delivery. Applicants are strongly encouraged to submit completed applications via overnight mail or delivery service to ensure timely receipt by RBS. Receipt of all applications will be acknowledged by e-mail. Therefore, applicants are strongly encouraged to provide accurate e-mail addresses. If the applicant does not receive an acknowledgment within 7 work days of the submission deadline, please contact the program manager (see item IV, 6). If RBS receives your application after closing due to:

(a) Carrier error, when the carrier accepted the package with guarantee for delivery by the closing date and time, or

(b) Significant weather delays or natural disaster, you will be given the opportunity to document these problems. RBS will consider the application as having been received by the deadline if your documentation meets these requirements and verifies the delay was beyond your control. However, applications submitted via facsimile or e-mail will not be accepted.

4. Intergovernmental Review of Applications

Executive Order 12372 does apply to this program.

5. Funding Restrictions

Based on Section 708 Title 7 Consolidated Appropriations-Act 2004, (Pub. L. 108-199) “No funds appropriated by this Act may be used to pay negotiated indirect cost rates on cooperative agreements or similar arrangements between the United States Department of Agriculture and nonprofit institutions in excess of 10 percent of the total cost of the agreement when the purpose of such cooperative arrangement is to carry out programs of mutual interest between the two parties.” Other funding restrictions are identified in the “Eligibility Information” section 2.

6. Other Submission Requirements

Send proposals and other required materials by mail or express delivery service to: Mr. Edgar L. Lewis, Program Manager, Rural Business-Cooperative Service, USDA, Stop 3252, Room 4221, 1400 Independence Avenue SW, Washington, DC 20250-3252.

Applications may not be submitted electronically at this time.

Several other Federal statutes and regulations apply to proposals considered for review and to cooperative agreements awarded. These include, but are not limited to:

7 CFR part 15, subpart A—Nondiscrimination in Federally Assisted Programs of the Department of Agriculture “ Effectuation of Title VI of the Civil Rights Act of 1964,

7 CFR part 3015—Uniform Federal Assistance Regulations,

7 CFR part 3017—Governmentwide Debarment and Suspension (Nonprocurement) and Governmentwide Requirements for Drug-Free Workplace (Grant),

7 CFR part 3018—New Restrictions on Lobbying,

7 CFR part 3019—Uniform Administrative Requirements for Grants and Agreements with Institutions of Higher Education, Hospitals, and Other Non-Profit Organizations,

7 CFR Part 3052—Audits of States, Local Governments, and Non-Profit Organizations.

V. Application Review Information

1. Criteria—Proposals will be evaluated using the following seven criteria. Each criterion is given the weight value shown with total points equal to 100. The points assigned provide an indication of the relative importance of each section and will be used by the reviewers in evaluating the proposals. Points do not have to be awarded by RBS for each criterion. After all proposals have been evaluated, the Administrator may award an additional 10 discretionary points to any proposal to obtain the broadest geographic distribution of the funds, insure a broad diversity of project proposals, or insure a broad diversity in the size of the awards.

(a) Support of Local Community (Up to 10 points)—Proposals should have the support of local government, educational, community, and business groups. Higher points will be awarded for proposals demonstrating broad support from all components of the communities served, particularly cooperative groups. Broad support is demonstrated by tangible contributions, such as providing volunteers, computers, or transportation or co-sponsoring workshops and conferences. Points will be awarded based on the level of tangible contribution in comparison to the size of the award. Tangible support must be stated in letters from supporting entities.

(b) Matching Funds/Leveraging (Up to 15 points)—This criteria relates to the extent to which the institution has the capacity to support the project with matching funds and leveraging additional funds and resources to carry out this outreach initiative.

A maximum of 10 points will be awarded based upon the amount the proposal exceeds the minimum 25 percent matching requirement. Applicants will be required to provide matching funds or equivalent in-kind in support of this project. Evidence of matching funds availability must be provided. Funds or equivalent in-kind must be available at the time the cooperative agreement is entered into. Matching funds points will be awarded as listed below.

>25 percent to 35 percent Match—2 points

>35 percent to 50 percent Match—5 points

>50 percent to 75 percent Match—7 points

>75 percent Match—10 points

Up to 5 additional points may be awarded based on the applicant's capacity to leverage additional funds and resources from other private and nonprivate sources to support this outreach initiative. Applicants must provide sufficient information on the amount and sources of your leveraging activities for the evaluation panel to properly rate this criterion.

(c) Economic Need of Community (Up to 15 points)—This criterion will be evaluated based on the economic need of the targeted communities.

A maximum of 5 points will automatically be awarded to proposals with one or more of the following entities in a targeted community(s): Empowerment Zones, Enterprise Communities, Champion Communities, Federally-recognized Indian reservations, and other federally declared economic depressed or disaster areas. Applicants must provide sufficient information for the panel to properly rate this part of the above criterion. The proposals must state the name and location of the declared economic depressed area.

Rural underserved targeted counties/communities must be an area other than a city or town that has a population of greater than 50,000 inhabitants and the urbanized area contiguous and adjacent to such a city or town, as defined by the U.S. Bureau of Census using the latest decennial census of the United States.

Also, for this criterion, a maximum of 7 points will be awarded for demonstrated economic need based on the currently available poverty rate of the targeted local community(s). Applicants may use targeted county or community poverty rates if available. When multi-community proposals are submitted, the over-all weighted average for all counties or communities will be used. Applicants must use current (2000 Census) poverty data for each targeted county or community. Points will be awarded based on the differences in the targeted county or community's average poverty from the respective State poverty rate (average targeted county or community poverty rate minus the respective State poverty rate). Percents will be rounded to the next whole number.

Less than 3 percent—0 points

3-6 percent—1 point

7-10 percent—2 points

11-15 percent—5 points

Greater than 15 percent—7 points

Up to 3 additional points may be awarded for this criterion based on the applicant's ability to demonstrate or identify other economic needs of the targeted communities, such as, but not limited to, unemployment rates, education levels, and job availability. Applicants must provide sufficient information for the panel to properly rate this part of the above criterion.

(d) Previous Accomplishments (Up to 10 points)—This criterion will be evaluated based on the applicant's previous accomplishments with this outreach initiative and/or demonstrative capacity to conduct similar outreach work.

A point will be awarded to those institutions for each year they have been awarded a cooperative agreement under this program up to 5 years. Applicants must provide evidence of satisfactorily completing the agreement for each year that they claim for credit.

Up to five additional points may be awarded based on the applicant's ability to document the positive impact of their project upon the targeted underserved rural communities. It is incumbent upon the applicant to provide information as to the type of services delivered and names of rural communities.

Applicants with zero or less than 5 recent years of awards in this program may receive up to the maximum 10 points by highlighting the applicant's commitment and previous performance on this project or projects with cooperative development outreach objectives. The applicant should discuss the potential impact of their project upon the targeted underserved rural communities, as well as describing previous similar outreach work.

(e) Statement of Work (up to 30 Points)—This criterion relates to the degree to which the proposed project addresses the major purposes for the “1890 Land Grant Institutions: Rural Entrepreneurial Program Outreach Initiative.” Points will be awarded according to the degree to which the statement of work reflects innovative strategies for providing outreach and assistance to the targeted underserved rural entrepreneurs, cooperatives, businesses and communities, and the potential for achieving project objectives. To receive up to 20 points, proposals must have a clearly and concisely stated work plan showing objectives, goals, timetables, expected results, measurable outcomes, a commitment to cooperative development and who will be performing various activities, including RBS involvement. All proposals must integrate substantial RBS involvement. An extra 10 points will be awarded for this criterion for those proposals that reflect innovation and commitment in working with new and existing cooperatives.

(f) Digital Technology Outreach (Up to 10 points)—This criterion is meant to evaluate the applicant's level of outreach and capacity to provide innovative and effective computer technology outreach to the underserved targeted rural communities.

A maximum of 5 points will be awarded based on the applicant's demonstrated capacity to promote innovations and improvements in the delivery of computer technology benefits to underserved rural communities whose share in these benefits is disproportionably low. Examples of innovations and improvements in this needed area include, but are not limited to; computer-based decision support systems to assist entrepreneurs and rural community governments in taking advantage of relevant technologies or effective delivery systems for business information or resource management assistance for rural underserved entrepreneurs and local governments and providing a business information systems network.

Up to 5 additional points may be awarded based on the qualification and subject skill level of the individuals directly conducting the technology outreach activities. Applicants must provide sufficient information for the evaluation panels to properly rate this technology criterion.

(g) Coordination and Management of the Project (Up to 10 points)—This criterion will be evaluated based on the applicant's demonstrated capacity to coordinate and manage this type of outreach initiative among the various stakeholders.

A maximum of 5 points will be awarded for the coordination plan. Applicants will need to describe the role and coordination mechanisms among various participants, including communities, the applicant, the USDA Rural Development State Office and RBS National Office. The nature of the collaborations and benefits to participants must also be described.

By definition, a cooperative agreement requires substantial involvement by the funding agent in carrying out the project objectives in the project. Therefore, up to 5 additional points may be awarded for this criterion based on demonstration of broad involvement and collaboration with each applicant's respective USDA Rural Development State Office as related to the outreach project. This involvement and collaboration should include, but not be limited to: (1) Rural Development State Office input and review of applicant's proposal, (2) invitations to attend and participate in workshops and conferences when needed, (3) on-going monitoring of the outreach project, and (4) directing applicants to the Rural Development State Office when applicable.

2. Review and Selection Process—Each application will be evaluated in a two-part process. First, each application will be screened to ensure that it meets the administrative requirements as set forth in the Request for Proposals. Second, a number of expert reviewers will conduct a merit review based on the “Evaluation Criteria and Weights” section of this notice. The review of the individual reviewers will be used by RBS to determine which application will be recommended to the Administrator for funding. Evaluated applications will be ranked based on merit. The RBS Administrator will make final approval for those applications recommended for an award. If there is a tie score after the proposals have been rated and ranked, the tie will be resolved by the proposal with the largest matching funds as a percent of the Federal amount of the award.

VI. Award Administration Information

1. Award Notices—This is a competitive cooperative agreement. In August, successful applicants will receive notice of award from RBS National Office stating that their university has been selected to receive an award to provide technical assistance and business development information to the targeted rural communities. Upon final approval of the award, based on an expert panel review and ranking process, as well as the Office of the General Counsel's review and clearance of your proposal by USDA's Under Secretary for Rural Development, an official cooperative agreement document will be sent to the successful applicant for signing by the institution's president or designee. The document will become binding after signing by the USDA official.

Unsuccessful applicants will receive notification of the results of the application review by mail.

In compliance with USDA's Management Control Review and RBS recommendations, the State Office representative will be conducting semiannual on-site reviews of your project, as well as any additional reviews deemed necessary by the National Office.

Upon final approval of the award, and as stated in the cooperative agreement, a copy of your quarterly progress and annual report are to be forwarded to the National and State Offices. In addition, “Request for Advance or Reimbursement” (SF-270), “Financial Status Report” (SF-269 or 269A) and quarterly progress reports are to be submitted contemporaneously to the National Office.

During the term of the negotiated agreements, the recipients will deliver quarterly reports of progress of the work to RBS and prepare and deliver a final report detailing all work done and results accomplished. In addition, all reports forwarded to RBS National Office must be forwarded to the USDA Rural Development State Office. Also, upon request by RBS, the recipient will deliver manuscripts, videotapes, software, or other media, as may be identified in approved proposals. RBS retains those rights delineated in 7 CFR 3019.36. Also, the recipients will deliver project outreach success stories and other project related information requested by RBS for use on the Web site (http://bisnet.sus.edu), or other Web sites designated by USDA-RBS.

2. Administrative and National Policy: Institutions that are awarded a cooperative agreement will be responsible for the following:

(a) Completing the objectives as defined in the approved proposal.

(b) Keeping up-to-date records on the project during the term of the agreement, making quarterly reports of the progress of the work to RBS on or prior to January 31, April 29, July 29, and October 31, 2005, and preparing a final report detailing all work done and results accomplished. Submitting a final report to RBS National Office and to the USDA Rural Development State Office within 90 days of the project's completion.

(c) Submitting to RBS, on a quarterly basis, (SF-270), “Request for Advance or Reimbursement.”

(d) Keeping an account of expenditures of the Federal dollars and matching fund dollars and providing to RBS, (SF-269), “Financial Status Report,” with each SF-270 submitted, and a final SF-269 within 90 days of the project's completion.

(e) Immediately refunding to RBS, at the end of the agreement, any balance of unobligated funds received from RBS.

(f) Providing matching funds or equivalent in-kind in support of the project, at least to the level agreed to in the accepted proposal.

(g) Conducting seminars to disseminate Rural Development program information to stimulate business and economic development in selected rural communities.

(h) Participating in the RBS Entrepreneurship and Information Annual or Bi-annual Conferences/Workshops when planned.

(i) In cooperation with local businesses, developing a program of cooperative and business startup and technical assistance that will assist with new company development, business planning, new enterprise, franchise startup and consulting, business expansion studies, marketing analysis, cashflow management, and seminars and workshops for cooperatives and small businesses.

(j) Providing office space, equipment, and supplies for all personnel assigned to the project.

(k) Developing management and technical assistance plans in cooperation with USDA Rural Development State Office that will:

(1) assess cooperative and small business alternatives to traditional, nontraditional, agricultural, and other natural resources-based industries;

(2) assist in the development of business plans and loan packages, marketing, bookkeeping assistance, and organizational sustainability; and

(3) in cooperation with USDA Rural Development State Office, provide technical assistance and training in customer relations, product development, and business planning and development.

(l) Assessing the need for and, if necessary, conducting a feasibility study of local community weaknesses and strengths, feasible alternatives to agriculture production, and the needed infrastructure to expand or develop new or existing businesses. The plans for any such studies must be submitted for approval prior to the study being conducted.

(m) In cooperation with the USDA Rural Development State Office, providing community leaders with advice and recommendations regarding best practices in community economic development stimulus programs for their communities.

(n) Developing digital technology outreach and establish and maintaining a Business Information Network System web site, linking community leaders and residents to available economic development information.

(o) Assuring and certifying that it is in compliance with, and will comply in the course of the agreement with, all applicable laws, regulations, Executive Orders, and other generally applicable requirements, including those set out in 7 CFR parts 3015 and 3019.

(p) Using Federal funds to only pay meeting related travel expenses when the employees are performing a service of direct benefit to the Government directly in furtherance of the objectives of the proposed agreement. Federal funds cannot be used to pay non-Federal employees to attend meetings.

(q) Not commingling or using program funds for administrative expenses to operate an intermediary relending program (IRP).

(r) Collaborating with the RBS National and USDA Rural Development State Offices in performing the tasks in the agreement as needed and providing the RBS National Office with the necessary information for RBS to:

(1) Monitor the program as it is being implemented and operated, including monitoring of financial information to ensure that there is no commingling or use of program funds for administrative expenses to operate an IRP or other unapproved items.

(2) Halt activity, after written notice, if tasks are not met.

(3) Review and approve changes to key personnel.

(4) Provide guidance in the evaluation process and other technical assistance as needed.

(5) Approve the final plans for the community business workshops, cooperative, business, and economic development sessions, and training workshops to be conducted by the applicant.

(6) Provide reference assistance as needed to the applicant for technical assistance given on a one-on-one basis to entrepreneurs and startup businesses.

(7) Review and comment upon strategic plans developed by the applicant for targeted areas.

(8) Review economic assessments made by the applicant for targeted counties so that RBS can indicate which of its programs may be beneficial.

(9) Carefully screen the project to prevent First Amendment violations.

(10) Monitor the program to ensure that a Business Information System Network web-site link is established and maintained.

(11) Provide assistance and training to the Business Information System Network Hub-sites and Wide Area Network (WAN) Team Members at the universities in preparing economic development information for posting on the Internet.

(12) Allow the USDA Rural Development State Office to conduct a semi-annual on-site review and submit written reports to the National Office.

(13) Participate in program workshops, seminars and conferences as required or by invitations.

(14) Sponsor annual or bi-annual Entrepreneurship and Information workshops for 1890 participants and Rural Development/RBS 1890 representatives.

VII. Agency Contact

FOR FURTHER INFORMATION CONTACT: Mr. Edgar L. Lewis, Program Manager, Rural Business-Cooperative Service, USDA, Stop 3252, Room 4221, 1400 Independence Avenue SW., Washington, DC 20250-3252. Telephone: (202) 690-3407. e-mail: edgar.lewis@usda.gov.

Paperwork Reduction Act

The paperwork burden associated with this initiative has been cleared by the Office of Management and Budget under OMB Control Number 0570-0041.

Dated: June 4, 2004.
John Rosso,
Administrator, Rural Business-Cooperative Service.

[FR Doc. 04-13105 Filed 6-9-04; 8:45 am]

BILLING CODE 3410-XY-P